DEPARTMENT OF COMMERCE

International Trade Administration

[A-469-814]

Chlorinated Isocyanurates from Spain: Notice of Antidumping Duty Order

AGENCY: Import Administration, International Trade Administration, Department of Commerce.

SUMMARY: Based on affirmative final determinations by the Department of Commerce (“the Department”) and the U.S. International Trade Commission (“the ITC”), the Department is issuing an antidumping duty order on chlorinated isocyanurates from Spain. On June 17, 2005, the ITC notified the Department of its affirmative determination of injury to a U.S. industry (Chlorinated Isocyanurates from the People's Republic of China and Spain, Investigations Nos. 731-TA-1082 and 1083 (Final), Publication 3782 (June 2005)).

EFFECTIVE DATE: June 24, 2005.

FOR FURTHER INFORMATION CONTACT: Thomas Martin and Mark Manning, AD/CVD Operations, Office 4, Import Administration, International Trade Administration, U.S. Department of Commerce, 14th Street and Constitution Avenue, NW, Washington, DC 20230; telephone: (202) 482-3936 or (202) 482-5253, respectively.

SUPPLEMENTARY INFORMATION: The final determination in this investigation was published on May 10, 2005. See Chlorinated Isocyanurates From Spain: Notice of Final Determination of Sales at Less Than Fair Value, 70 FR 24506 (May 10, 2005) (“Final Determination”).

Scope of the Order

The products covered by this order are chlorinated isocyanurates. Chlorinated isocyanurates are derivatives of cyanuric acid, described as chlorinated s-triazine triones. There are three primary chemical compositions of chlorinated isocyanurates: (1) trichloroisocyanuric acid (Cl3(NCO)3), (2) sodium dichloroisocyanurate (dihydrate) (NaCl2(NCO)3 2H2O), and (3) sodium dichloroisocyanurate (anhydrous) (NaCl2(NCO)3). Chlorinated isocyanurates are available in powder, granular, and tableted forms. This order covers all chlorinated isocyanurates.

Chlorinated isocyanurates are currently classifiable under subheadings 2933.69.6015, 2933.69.6021, and 2933.69.6050 of the Harmonized Tariff Schedule of the United States (“HTSUS”). The tariff classification 2933.69.6015 covers sodium dichloroisocyanurates (anhydrous and dihydrate forms) and trichloroisocyanuric acid. The tariff classifications 2933.69.6021 and 2933.69.6050 represent basket categories that include chlorinated isocyanurates and other compounds including an unfused triazine ring. Although the HTSUS subheadings are provided for convenience and customs purposes, the written description of the scope of this order is dispositive.

On July 1, 2004, Arch Chemicals, Inc. (“Arch”), an importer, argued that its patented, formulated, chlorinated isocyanurates tablet is not covered by the scope of the investigation. In the Final Determination, the Department found that Arch's patented chlorinated isocyanurates tablet is included within the scope of this antidumping duty investigation. See Memorandum from Holly A. Kuga, Senior Office Director, to Barbara E. Tillman, Acting Deputy Assistant Secretary for Import Administration, “Scope of the Antidumping Duty Investigations of Chlorinated Isocyanurates from the People's Republic of China and Spain,” dated December 10, 2004, adopted without comment in the Final Determination.

Antidumping Duty Order

On June 17, 2005, in accordance with section 735(d) of the Tariff Act of 1930, as amended (“the Act”), the ITC notified the Department of its final determination pursuant to section 735(b)(1)(A)(i) of the Act that an industry in the United States is materially injured by reason of less-than-fair-value imports of chlorinated isocyanurates from Spain. Therefore, in accordance with section 736(a)(1) of the Act, the Department will direct U.S. Customs and Border Protection (“CBP”) to assess, upon further instruction by the Department, antidumping duties equal to the amount by which the normal value of the merchandise exceeds the export price (or the constructed export price) of the merchandise for all relevant entries of chlorinated isocyanurates from Spain. These antidumping duties will be assessed on all entries of chlorinated isocyanurates from Spain entered, or withdrawn from warehouse, for consumption on or after December 20, 2004, the date on which the Department published its notice of preliminary determination in the Federal Register. See Chlorinated Isocyanurates From Spain: Notice of Preliminary Determination of Sales at Less Than Fair Value and Postponement of Final Determination, 69 FR 75902 (December 20, 2004) (“Preliminary Determination”).

Section 733(d) of the Act states that instructions issued pursuant to an affirmative preliminary determination may not remain in effect for more than four months except where exporters representing a significant proportion of exports of the subject merchandise request the Department to extend that four-month period to no more than six months. At the request of exporters that account for a significant proportion of the Spanish exports of subject merchandise, we extended the four-month period to no more than six months. See Preliminary Determination. In the investigation, the six-month period beginning on the date of the publication of the Preliminary Determination ended on June 17, 2005. Furthermore, section 737 of the Act states that definitive duties are to begin on the date of publication of the ITC's final injury determination. Therefore, in accordance with section 733(d) of the Act and our practice, we will instruct CBP to terminate the suspension of liquidation and to liquidate, without regard to antidumping duties, unliquidated entries of chlorinated isocyanurates from Spain entered, or withdrawn from warehouse, for consumption on or after June 18, 2005, and before the date of publication of the ITC's final injury determination in the Federal Register. Suspension of liquidation will continue on or after the date of the publication of the ITC's final injury determination.

Effective on the date of publication of the ITC's final affirmative injury determination, CBP officers must require, at the same time as importers would normally deposit estimated duties on this merchandise, a cash deposit equal to the estimated weighted-average antidumping duty margins as noted below. The all others' rate applies to all manufacturers and exporters of subject merchandise not specifically listed. The weighted-average dumping margins are as follows:

Manufacturer/exporter | Weighted-Average Margin (percent)
Aragonesas Delsa S.A. | 24.83
All Others | 24.83

Pursuant to section 736(a) of the Act, this notice constitutes the antidumping duty order with respect to chlorinated isocyanurates from Spain. Interested parties may contact the Department's Central Records Unit, Room B-099 of the main Commerce Building, for copies of an updated list of antidumping duty orders currently in effect.

This order is issued and published in accordance with section 736(a) of the Act and 19 CFR 351.211.

Dated: June 21, 2005.
Joseph A. Spetrini,
Acting Assistant Secretary for Import Administration.

[FR Doc. E5-3300 Filed 6-23-05; 8:45 am]

BILLING CODE 3510-DS-S